DEPARTMENT OF COMMERCE

International Trade Administration

[C-570-982]

Utility Scale Wind Towers From the People's Republic of China: Alignment of Final Countervailing Duty Determination With Final Antidumping Duty Determination

AGENCY: Import Administration, International Trade Administration, Department of Commerce.

SUMMARY: The Department of Commerce (the Department) is aligning the final determination in the countervailing duty (CVD) investigation of utility scale wind towers (wind towers) from the People's Republic of China (PRC) with the final determination in the companion antidumping duty (AD) investigation.

DATES: Effective Date: June 22, 2012.

FOR FURTHER INFORMATION CONTACT: Kristen Johnson or Patricia Tran, AD/CVD Operations, Office 3, Import Administration, U.S. Department of Commerce, Room 4014, 14th Street and Constitution Avenue NW., Washington, DC 20230; telephone: 202-482-4793 and 202-482-1503, respectively.

SUPPLEMENTARY INFORMATION:

Background

On January 18, 2012, the Department initiated the AD and CVD investigations of wind towers from the PRC.¹ On June 6, 2012, the Department published the preliminary affirmative CVD determination.² On June 7, 2012, the petitioner, the Wind Tower Trade Coalition,³ timely requested alignment of the deadline for the final CVD determination with the deadline for the final determination in the companion AD investigation, in accordance with section 705(a)(1) of the Tariff Act of 1930, as amended (the Act), and 19 CFR 351.210(b)(4)(i) and 210(i). Because the AD and CVD investigations were initiated simultaneously and involve the same class or kind of merchandise from the same country, we are aligning the final deadlines in the two investigations. The final CVD and AD determinations will be issued no later than October 9, 2012, unless postponed.

¹ See Utility Scale Wind Towers From the People's Republic of China: Initiation of Countervailing Duty Investigation, 77 FR 3447 (January 24, 2012) and Utility Scale Wind Towers From the People's Republic of China and the Socialist Republic of Vietnam: Initiation of Antidumping Duty Investigations, 77 FR 3440 (January 24, 2012).

² See Utility Scale Wind Towers From the People's Republic of China: Preliminary Affirmative Countervailing Duty Determination, 77 FR 33422 (June 6, 2012).

³ The following companies compose the Wind Tower Trade Coalition: Broadwind Towers, Inc., DMI Industries, Katana Summit LLC, and Trinity Structural Towers, Inc.

This notice is issued and published pursuant to section 705(a)(1) of the Act.

Dated: June 15, 2012.
Paul Piquado,
Assistant Secretary for Import Administration.

[FR Doc. 2012-15376 Filed 6-21-12; 8:45 am]

BILLING CODE 3510-DS-P